INTERNATIONAL TRADE COMMISSION

[USITC SE-05-003]

Government in the Sunshine Act Meeting Notice

Action: Cancellation of Government in the Sunshine Meeting.

Agency: United States International Trade Commission.

Original Time and Date: January 26, 2005, at 2 p.m.

Place: Room 101, 500 E Street, SW., Washington, DC 20436, telephone: (202) 205-2000.

In accordance with 19 CFR 201.35(d)(1), the Commission has determined to cancel the Government in the Sunshine meeting which was scheduled for January 26, 2005. The Commission will reschedule this meeting at a future date. Earlier announcement of this cancellation was not possible.

Issued: January 25, 2005.
By order of the Commission.
Marilyn R. Abbott,
Secretary to the Commission.

[FR Doc. 05-1642 Filed 1-25-05; 2:42 pm]

BILLING CODE 7020-02-P